DEPARTMENT OF AGRICULTURE

National Agricultural Statistics Service

Notice of Intent To Seek Approval To Reinstate an Information Collection

AGENCY: National Agricultural Statistics Service, USDA.

ACTION: Notice and request for comments.

SUMMARY: In accordance with the Paperwork Reduction Act of 1995, this notice announces the intention of the National Agricultural Statistics Service (NASS) to seek reinstatement of an information collection, the 2022 Census of Agriculture.

DATES: Comments on this notice must be received by May 7, 2021 to be assured of consideration.

ADDRESSES: You may submit comments, identified by docket number 0535-0226, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: The 2022 Census of Agriculture.

OMB Control Number: 0535-0226.

Expiration Date of Previous Approval: November 1, 2019.

Type of Request: Intent to Seek Reinstatement of an Information Collection.

Abstract: The census of agriculture is the primary source of statistics concerning the nation's agricultural industry. It provides the only basis of consistent, comparable data for each county, county equivalent, and state in the United States and its outlying insular areas. The census is conducted every 5 years, the last one being for the reference year of 2017. The 2022 Census of Agriculture will again cover all agricultural operations in the 50 states, Puerto Rico, Guam, the U.S. Virgin Islands, the Commonwealth of Northern Mariana Islands (CNMI), and American Samoa which meet the census definition for a farm. For the 50 states, Guam, and CNMI, a farm is any place that produced and sold, or normally would produce and sell, $1,000 or more of agricultural products during the census reference year. For Puerto Rico and the U.S. Virgin Islands it is any place with $500 in production and sales. American Samoa is not limited by a threshold for production or sales and includes items grown for home consumption.

Data collection for the censuses of agriculture for the 50 states and Puerto Rico will be conducted primarily by mail-out/mail-back procedures (U.S. Postal Service), internet, and with phone and field enumeration for targeted non-respondents. Data collection for Guam, the U.S. Virgin Islands, Commonwealth of the Northern Mariana Islands (CNMI), and American Samoa will be conducted using direct enumeration methods only. For the 50 states, respondents will be contacted up to 7 times by mail (postcard announcement, 3 mailings of the questionnaire and internet access instruction, and postcard reminders) and additional telephone or personal interview follow-up for mail and internet non-respondents. Questionnaires returned by the Post Office as non-deliverable will be removed from the target population and subsequent mailings. Respondents who contact one of our phone centers to notify NASS of their farming status or to complete a questionnaire will also be removed from any subsequent mailings. In 2020, NASS conducted cognitive interviews of proposed changes to the 2022 Census of Agriculture using the Generic Testing docket (0535-0248). In December 2020 NASS began testing the 2022 Census of Agriculture and will continue testing through September 2021, using the Census Content Testing docket (0535-0243).

Four census of agriculture questionnaire versions will be used for the 50 states. One version will be used for Hawaii to contain tropical commodities unique to that state. One version will be used for Native Americans to accommodate operating structures unique to some tribal lands. One shorter version will target farm operations known to not have certain commodities or farming practices. A longer form will be used for the remaining farming operations. NASS is working to increase the speed and ease at which any respondent may fill out the form by incorporating improved screening questions in the internet version of the questionnaire that automatically skips questions that do not apply to a particular respondent. This reduces overall respondent burden, particularly for small operations and operations specializing in only a few commodities. A screening survey, conducted prior to the census, will enable NASS to eliminate non-farm operations from the census mail list and determine respondent eligibility for receiving the appropriate census mail package.

The census of agriculture is required by law under the “Census of Agriculture Act of 1997,” Public Law 105-113, 7 U.S.C. 2204(g). Response to the screening form, the census of agriculture and the census special study surveys are mandatory. The census special study surveys will be included under different OMB approvals. Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362. The law guarantees farm operators that their individual information will be kept confidential. NASS uses the information only for statistical purposes and publishes only tabulated total data. These data are used by Congress when developing or changing farm programs. Many national and state programs are designed or allocated based on census data, i.e., soil conservation projects, funds for cooperative extension programs, and research funding. Private industry uses the data to provide more effective production and distribution systems for the agricultural community.

Estimate of Burden: Public reporting burden for this collection of information will average about 50 minutes per census long form, 40 minutes per census short form, 30 to 50 minutes for U.S. territories, 15 minutes per screening form, and 2 minutes per refusal from all sources. Additional burden is allotted for instruction sheets, cover letters, and postcard reminders.

Respondents: Farm and ranch operators.

Estimated Number of Respondents: 4,320,000.

Estimated Total Annual Burden on Respondents: 2,960,000 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, March 2, 2021.
Kevin L. Barnes,
Associate Administrator.

[FR Doc. 2021-04701 Filed 3-5-21; 8:45 am]

BILLING CODE 3410-20-P